ENVIRONMENTAL PROTECTION AGENCY

40 CFR Part 180

[EPA-HQ-OPP-2013-0023; FRL-9907-04]

Withdrawal of Pesticide Petitions for Residues of Pesticide Chemicals in or on Various Commodities

AGENCY: Environmental Protection Agency (EPA).

ACTION: Notice of withdrawal of pesticide petitions.

SUMMARY: This document announces the withdrawal of pesticide petitions requesting the establishment or modification of regulations for residues of pesticide chemicals in or on various commodities. The petitions were either withdrawn voluntarily by the petitioners or administratively by the Agency.

DATES: The pesticide petitions in this document are withdrawn as of March 31, 2014.

FOR FURTHER INFORMATION CONTACT: Lois Rossi, Registration Division (7505P), Office of Pesticide Programs, Environmental Protection Agency, 1200 Pennsylvania Ave. NW., Washington, DC 20460-0001; telephone number: (703) 305-7090; email address: RDFRNotices@epa.gov. You may also reach each contact person by mail at Registration Division (7505P), Office of Pesticide Programs, Environmental Protection Agency, 1200 Pennsylvania Ave. NW., Washington, DC 20460-0001.

SUPPLEMENTARY INFORMATION:

I. General Information

A. Does this action apply to me?

Although this action only applies to the petitioners in question, it is directed to the public in general. Since various individuals or entities may be interested, the Agency has not attempted to describe all the specific entities that may be interested in this action. If you have any questions regarding this action, please consult the person listed at the end of the withdrawal summary for the pesticide petition of interest.

B. How can I get copies of this document and other related information?

The docket for this action, identified by docket identification (ID) number EPA-HQ-OPP-2012-0001, is available at http://www.regulations.gov or at the OPP Docket in the Environmental Protection Agency Docket Center (EPA/DC), located in EPA West, Rm. 3334, 1301 Constitution Ave. NW., Washington, DC 20460-0001. The Public Reading Room is open from 8:30 a.m. to 4:30 p.m., Monday through Friday, excluding legal holidays. The telephone number for the Public Reading Room is (202) 566-1744, and the telephone number for the OPP Docket is (703) 305-5805. Please review the visitor instructions and additional information about the docket available at http://www.epa.gov/dockets.

III. What action is the Agency taking?

EPA is announcing the withdrawal of pesticide petitions received under section 408 of the Federal Food, Drug, and Cosmetic Act (FFDCA), 21 U.S.C. 346a, requesting the establishment or modification of regulations in 40 CFR part 180 for residues of pesticide chemicals in or on various food commodities.

Pursuant to 40 CFR 180.7(f), a summary of each of the petitions covered by this document, prepared by the petitioner, was included in a docket EPA created for each rulemaking. The docket for each of the petitions is available online at http://www.regulations.gov.

Withdrawals by Petitioners

1. PP 2E8043 (N-heptane). EPA issued a notice in the Federal Register of August 22, 2012 (77 FR 50661) (EPA-HQ-OPP-2012-0491), which announced the filing of a pesticide petition (PP 2E8043 by Suterra LLC., 20950 NE., Talus Place, Bend, OR 97701. The petition requested to establish an exemption from the requirement of a tolerance for residues of n-heptane (CAS No. 142-82-5) under 40 CFR 180.920 in or on raw agricultural commodities, when used as a pesticide inert ingredient in aerosol, pheromone mating disruption products only, and only in concentrations less than 40% of the total formulation, and applied to growing crops only. Upon review, EPA determined that this request is appropriate as a non-food use petition, which does not require such notice. Therefore, on October 15, 2012, the EPA administratively withdrew this petition.

2. PP 1E7951 (EPTC). EPA issued a notice in the Federal Register of April 4, 2012 (77 FR 20336) (EPA-HQ-OPP-2011-1011), which announced the filing of pesticide petition (PP 1E7951) by Interregional Research Project Number 4 (IR-4). The petition proposed to establish a tolerance in 40 CFR part 180 for residues of the herbicide S-ethyl dipropylthiocarbamate (EPTC), including its metabolites and degradates, in or on fruit, citrus, group 10-10 at 0.1 ppm; sunflower subgroup 20B at 0.08 ppm; and watermelon at 0.08 ppm. On March 6, 2013, IR-4 notified EPA that it was withdrawing this petition.

3. PP 1E7879 (Methanone, 2-hydroxy-4-methoxybenzophenone). EPA issued a notice in the Federal Register of August 26, 2011 (76 FR 53372) (FRL-8884-9) (EPA-HQ-OPP-2011-0587), which announced the filing of pesticide petition (PP 1E7879) by Loveland Products, Inc. The petition proposed to establish an exemption from the requirement of a tolerance for residues of methanone, 2-hydroxy-4-methoxybenzophenone, in 40 CFR part 180.920, when used as a pesticide inert ingredient as a UV-stabilizer at no more than 25% in pesticide formulations (pre-harvest uses), and requested to establish exemptions from the requirement of a tolerance in or on all raw agricultural commodities. On January 21, 2014, Loveland Products, Inc., notified EPA that it was withdrawing this petition.

4. PP 3E8170 (Chlorantraniliprole). EPA issued a notice in the Federal Register of July 19, 2013 (78 FR 43115) (FRL-9392-9) (EPA-HQ-OPP-2013-0235), which announced the filing of pesticide petition (PP 3E8170) by Interregional Research Project Number 4 (IR-4). The petition proposed to establish a tolerance in 40 CFR part 180.628 for residues of the insecticide chlorantraniliprole in or on fruit, stone, group 12-12, except cherry, chickasaw plum, and damson plum at 4.0 ppm; nut, tree, group 14-12 at 0.04 ppm; papaya at 4.0 ppm; passionfruit at 4.0 ppm; and onion, green, subgroup 3-07B at 3.0 ppm. On January 28, 2014, IR-4 notified EPA that it was withdrawing the proposed tolerance in or on nut, tree, group 14-12 from this petition.

5. PP 9E7621 (Alkyl Polyglucoside Esters (AGEs)). EPA issued a notice in the Federal Register of March 24, 2010 (75 FR 14154) (EPA-HQ-OPP-2010-0138), which announced the filing of a pesticide petition (PP 9E7621) by Lamberti USA, Inc., 161 Washington St., Conshohocken, PA 19428. The petition requested to establish an exemption from the requirement of a tolerance for residues of alkyl polyglucoside esters (AGEs) group, formed by D-Glucopyranose, oligomeric, 6-(dihydrogen 2-hydroxy-1,2,3-propanetricarboxylate), 1-(C8-C20 linear and branched alkyl) ethers, sodium salts (CAS No. 1079993-97-7); D-Glucopyranose, oligomeric, 6-(hydrogen sulfobutanedioate), 1-(C8-C20 linear and branched alkyl) ethers, sodium salts (CAS No. 1079993-92-2); D-Glucopyranose, oligomeric, Propanoic acid, 2-hydroxy-, 1-(C8-C20 linear and branched alkyl) ethers (CAS No. 1079993-94-4); under 40 CFR 180.910 and 40 CFR 180.920 in or on raw agricultural commodities, when used as a pesticide inert in final pesticide formulations. On February 11, 2014, Lamberti USA, Inc., notified EPA that it was withdrawing this petition.

6. PP 2E8093 (sodium metabisulfite). EPA issued a notice in the Federal Register of June 5, 2013 (78 FR 33785) (EPA-HQ-OPP-2013-0175), which announced the filing of a pesticide petition (PP 2E8093) by Winfield Solutions, LLC, P.O. Box 64589, St. Paul, MN 55164. The petition requested to establish an exemption from the requirement of a tolerance for residues of sodium metabisulfite (CAS No. 7681-57-4) under 40 CFR 180.920 in or on raw agricultural commodities, when used as a pesticide inert ingredient (preservative) at concentrations less than 0.5% of the total formulation and applied to growing crops only. On February 14, 2014, Winfield Solutions notified EPA that it was withdrawing this petition.

List of Subjects

Environmental protection, Agricultural commodities, Feed additives, Food additives, Pesticides and pests, Reporting and recordkeeping requirements.

Dated: March 6, 2014.
Lois Rossi,
Director, Registration Division, Office of Pesticide Programs.

[FR Doc. 2014-05693 Filed 3-28-14; 8:45 am]

BILLING CODE 6560-50-P